FEDERAL ELECTION COMMISSION

Sunshine Act Meetings

Agency: Federal Election Commission.

Date And Time: Thursday, March 23, 2017 at 10:00 a.m.

Place: 999 E Street NW., Washington, DC (Ninth Floor).

Status: This Meeting Will Be Open To the Public.

Items to be Discussed:

Draft Advisory Opinion 2016-23: Socialist Workers Party

Draft Supplemental Notice of Disposition on REG 2014-06 (Candidate Debates)

Audit Division Recommendation Memorandum on the Colorado Republican Committee (CRC) (A13-12)

Proposed Final Audit Report on Kind for Congress Committee (A15-02)

Proposed Final Audit Report on the Kansas Democratic Party (A13-08)

2017 Chief FOIA Officer Report

FEC Email Management Policy

REG 2014-10: Implementing the Consolidated and Further Continuing Appropriations Act, 2015

REG 2016-03: Political Party Rules

Management and Administrative Matters

Individuals who plan to attend and require special assistance, such as sign language interpretation or other reasonable accommodations, should contact Dayna C. Brown, Secretary and Clerk, at (202) 694-1040, at least 72 hours prior to the meeting date.

Person to Contact for Information: Judith Ingram, Press Officer, Telephone: (202) 694-1220.

Dayna C. Brown,
Secretary and Clerk of the Commission.

[FR Doc. 2017-05589 Filed 3-17-17; 11:15 am]

BILLING CODE 6715-01-P